DEPARTMENT OF JUSTICE

Notice of Lodging of Consent Decree Under the Comprehensive Environmental Response, Compensation, and Liability Act

Notice is hereby given that on February 3, 2006, an electronic version of a proposed consent decree was lodged in the United States District Court for the District of South Carolina in United States v. Exxon Mobile Corporation, et al., No. 7:06-00360-GRA (D.S.C.). The consent decree settles the United States' claims against numerous defendants under section 106 and 107 of the Comprehensive Environmental Response, Compensation, and Liability Act (“CERCLA”), 42 U.S.C. 9606 and 9607, in connection with the Aqua-Tech Environmental, Inc. (Groce Labs) Superfund Site near Greer, South Carolina (the “Site”). Under the proposed consent decree, 79 settling defendants will perform the Remedial Design and Remedial Action for the Site and reimburse the United States Environmental Protection Agency (“EPA”) for past and future costs.

In connection with the proposed consent decree, the United States, on behalf of 13 settling federal agencies, will contribute funds to pay EPA's past costs and to fund the future work. A fourteenth settling federal agency, the U.S. Postal Service, will make a lump sum payment to EPA for past costs and will make a lump sum payment to the settling defendants to fund the work.

The Department of Justice will receive for a period of thirty (30) days from the date of this publication comments relating to the consent decree. Comments should be addressed to the Assistant Attorney General, Environment and Natural Resources Division, P.O. Box 7611, U.S. Department of Justice, Washington, DC 20044-7611, and should refer to United States v. Exxon Mobil Corporation, et al., No. 7:06-CV-00360-GRA (D.S.C.) and DOJ #90-113-08483.

The consent decree may be examined at the Office of the United States Attorney for this District of South Carolina 1441 Main Street, Suite 500 Columbia, South Carolina 29201. During the public comment period, the consent decree may also be examined on the following Department of Justice Web site: http://www.usdoj.gov/enrd/open.html. A copy of the consent decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $33.75 (25 cents per page reproduction cost) payable to the U.S. Treasury.

Ellen M. Mahan,
Assistant Chief, Environmental Enforcement Section, Environment and Natural Resources Division.

[FR Doc. 06-1421 Filed 2-14-06; 8:45 am]

BILLING CODE 4410-15-M